DEPARTMENT OF HOMELAND SECURITY

Coast Guard

33 CFR Part 100

[Docket Number USCG-2017-0010]

RIN 1625-AA08

Special Local Regulations; Sector Ohio Valley Annual and Recurring Special Local Regulations Update

AGENCY: Coast Guard, DHS.

ACTION: Notice of proposed rulemaking.

SUMMARY: The Coast Guard is amending and updating its special local regulations relating to recurring marine parades, regattas, and other events that take place in the Coast Guard Sector Ohio Valley area of responsibility (AOR). This notice informs the public of regularly scheduled events that require additional safety measures through establishing a special local regulation. Through this notice the current list of recurring special local regulations is updated with revisions, additional events, and removal of events that no longer take place in Sector Ohio Valley's AOR. When these special local regulations are enforced, certain restrictions are placed on marine traffic in specified areas. Additionally, this one proposed rulemaking project reduces administrative costs involved in producing separate proposed rules for each individual recurring special local regulation and serves to provide notice of the known recurring special local regulations throughout the year.

DATES: Comments and related material must be received by the Coast Guard on or before April 26, 2017.

ADDRESSES: You may submit comments identified by docket number USCG-2017-0010 using the Federal eRulemaking Portal at http://www.regulations.gov. See the “Public Participation and Request for Comments” portion of the SUPPLEMENTARY INFORMATION section for further instructions on submitting comments.

FOR FURTHER INFORMATION CONTACT: If you have questions on this proposed rule, call or email Petty Officer James Robinson, Sector Ohio Valley, U.S. Coast Guard; telephone (502) 779-5347, email James.C.Robinson@uscg.mil.

SUPPLEMENTARY INFORMATION:

I. Table of Abbreviations

CFR Code of Federal Regulations

DHS Department of Homeland Security

E.O. Executive order

FR Federal Register

NPRM Notice of proposed rulemaking

Pub. L. Public Law

§ Section

U.S.C. United States Code

II. Background, Purpose, and Legal Basis

The Captain of the Port (COTP) Ohio Valley is proposing to establish, amend, and update its current list of recurring special local regulations.

These special local regulations are proposed to be added, amended, and updated to the list of annually recurring special local regulations under 33 CFR 100.801 in Table no. 1 for annual special local regulations in the COTP Ohio Valley zone. The Coast Guard will address all comments accordingly, whether through response, additional revision to the regulation, or otherwise. Additionally, these recurring events are provided to the public through local avenues and planned by the local communities.

The current list of annual and recurring special local regulations occurring in Sector Ohio Valley's AOR is published under 33 CFR part 100.801. That most recent list was created January 25, 2016 through the rulemaking 81 FR 3976.

The Coast Guard's authority for establishing a special local regulation is contained at 33 U.S.C. 1233. The Coast Guard is amending and updating the special local regulations under 33 CFR part 100 to include the most up to date list of recurring special local regulations for events held on or around navigable waters within Sector Ohio Valley's AOR. These events include marine parades, boat races, swim events, and other marine related events. The current list under 33 CFR 100.801 requires amending to provide new information on existing special local regulations, updating to include new special local regulations expected to recur annually or biannually, and to remove special local regulations that are no longer required. Issuing individual regulations for each new special local regulation, amendment, or removal of an existing special local regulation creates unnecessary administrative costs and burdens. This single proposed rulemaking will considerably reduce administrative overhead and provides the public with notice through publication in the Federal Register of the upcoming recurring special local regulations.

The Coast Guard encourages the public to participate in this proposed rulemaking through the comment process so that any necessary changes can be identified and implemented in a timely and efficient manner.

III. Discussion of Proposed Rule

33 CFR part 100 contains regulations to provide effective control over regattas and marine parades conducted on U.S. navigable waters in order to ensure the safety of life in the regattas or marine parade area. Section 100.801 provides the regulations applicable to events taking place in the Eighth Coast Guard District and also provides a table listing each event and special local regulation. This section requires amendment from time to time to properly reflect the recurring special local regulations in Sector Ohio Valley's AOR. This proposed rule amends and updates Section 100.801 replacing the current Table 1 for Sector Ohio Valley.

Additionally, this proposed rule would add 12 new recurring special local regulations and removes 06 special local regulations as follows: 12 added under the new Table 1 for Sector Ohio Valley.

Date | Event/sponsor | Ohio Valley location | Regulated area
2 days—First weekend in August | Powerboat Nationals—Ravenswood Regatta | Ravenswood, WV | Ohio River, Mile 220.5-221.5 (West Virginia).
2 days—One of the last three weekends in June | Lawrenceburg Regatta/Whiskey City Regatta | Lawrenceburg, IN | Ohio River, Mile 492.0-496.0 (Indiana).
2 days—One of the last three weekends in September | Madison Vintage Thunder | Madison, IN | Ohio River, Mile 557.5-558.5 (Indiana).
1 day—Fourth weekend in October | Chattajack | Chattanooga, TN | Tennessee River, Mile 463.7-464.5 (Tennessee).
1 day—Third weekend in March | Vanderbilt Invite | Nashville, TN | Cumberland River Mile 189.0-192.0 (Tennessee).
2 days—last weekend in September | Music City Head Race | Nashville, TN | Cumberland River, Mile 190.5-195.0 (Tennessee).
1 day—Last weekend in July | Music City SUP Race | Nashville, TN | Cumberland River Mile 190.0-191.5 (Tennessee).
3 days—Third weekend in June | Thunder on the Cumberland | Nashville, TN | Cumberland River, Mile 190.5-194.0 (Tennessee).
3 days—Second weekend in May | ACRA Henley | Nashville, TN | Cumberland River, Mile 189.0-193.0 (Tennessee).
2 days—Third weekend in August | Kittanning Riverbration Boat Races | Kittanning, PA | Allegheny River, Mile 44.0-45.5 (Pennsylvania).
2 days—Third Friday and Saturday in April | Thunder Over Louisville | Louisville, KY | Ohio River, Mile 598.0-603.0.
3 days—One of the first two weekends in September | Evansville HydroFest | Evansville, IN | Ohio River, Mile 791.8.0-793.0.

This proposed rule would remove the following seven special local regulations from the existing Table 1 Part 100.801 as follows:

Date | Event/sponsor | Ohio Valley location | Regulated area
1 day—Saturday before Memorial Day weekend | Venture Outdoors/Venture Outdoors Festival | Pittsburgh, PA | Allegheny River, Mile 0.0-0.25 Monongahela River 0.0-0.25 (Pennsylvania).
1 day—Third Saturday in July | Pittsburgh Irish Rowing Club/St. Brendan's Cup Currach Regatta | Pittsburgh, PA | Miles 7-9, Ohio River back channel (Pennsylvania).
2 days—Last weekend in September | Fall Records Challenge Committee/Fall Records Challenge | New Martinsville, WV | Ohio River, Mile 128.5-129.5 (West Virginia).
1 day—One weekend, last half of September | Harbor House of Louisville/Ken“Ducky” Derby | Louisville, KY | Ohio River, Mile 602.0-604.0 (Kentucky).
1 day—July 4th | Wellsburg 4th of July Committee/Wellsburg 4th of July Fireworks | Wellsburg, WV | Ohio River, Mile 73.5-74.5 (West Virginia).
1 day—One weekend, last half of September | Harbor House of Louisville/Ken“Ducky” Derby | Louisville, KY | Ohio River, Mile 602.0-604.0 (Kentucky).
2 days—First or second weekend in September | State Dock/Cumberland Poker Run | Jamestown, KY | Lake Cumberland (Kentucky).

The effect of this proposed rule would be to restrict general navigation during these events. Vessels intending to transit the designated waterway through the special local regulations will only be allowed to transit the area when the COTP Ohio Valley, or designated representative, has deemed it safe to do so or at the completion of the event.

IV. Regulatory Analyses

We developed this proposed rule after considering numerous statutes and executive orders (E.O.s) related to rulemaking. Below we summarize our analyses based on a number of these statutes and E.O.s, and we discuss First Amendment rights of protestors.

A. Regulatory Planning and Review

E.O.s 12866 (“Regulatory Planning and Review”) and 13563 (“Improving Regulation and Regulatory Review”) direct agencies to assess the costs and benefits of available regulatory alternatives and, if regulation is necessary, to select regulatory approaches that maximize net benefits including potential economic, environmental, public health and safety effects, distributive impacts, and equity. E.O.13563 emphasizes the importance of quantifying both costs and benefits, of reducing costs, of harmonizing rules, and of promoting flexibility. Executive Order 13771 (“Reducing Regulation and Controlling Regulatory Costs”), directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, the Office of Management and Budget (OMB) has not reviewed it.

As this rule is not a significant regulatory action, this rule is exempt from the requirements of Executive Order 13771. See OMB's Memorandum titled “Interim Guidance Implementing Section 2 of the Executive Order of January 30, 2017 titled `Reducing Regulation and Controlling Regulatory Costs' ” (February 2, 2017).

The Coast Guard expects the economic impact of this proposed rule to be minimal, and therefore a full regulatory evaluation is unnecessary. This proposed rule establishes special local regulations limiting access to certain areas under 33 CFR part 100 within Sector Ohio Valley's AOR. The effect of this proposed rulemaking will not be significant because these special local regulations are limited in scope and duration. Additionally, the public is given advance notification through local forms of notice, the Federal Register, and/or Notices of Enforcement and thus will be able to plan operations around the special local regulations in advance. Deviation from the special local regulations established through this proposed rulemaking may be requested from the appropriate COTP and requests will be considered on a case-by-case basis. Broadcast Notices to Mariners and Local Notices to Mariners will also inform the community of these special local regulations so that they may plan accordingly for these short restrictions on transit. Vessel traffic may request permission from the COTP Ohio Valley or a designated representative to enter the restricted area.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

This proposed rule would affect the following entities, some of which may be small entities: The owners or operators of vessels intending to transit the special local regulation areas during periods of enforcement. The special local regulations would not have a significant economic impact on a substantial number of small entities because they are limited in scope and will be in effect for short periods of time. Before the enforcement period, the Coast Guard COTP will issue maritime advisories widely available to waterway users. Deviation from the special local regulations established through this proposed rulemaking may be requested from the appropriate COTP and requests will be considered on a case-by-case basis.

Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this proposed rule or any policy or action of the Coast Guard.

C. Collection of Information

This proposed rule will not call for a new collection of information under the Paperwork Reduction Act of 1995 (44 U.S.C. 3501-3520.).

D. Federalism and Indian Tribal Governments

A rule has implications for federalism under E.O. 13132, Federalism, if it has a substantial direct effect on the States, on the relationship between the national government and the States, or on the distribution of power and responsibilities among the various levels of government. We have analyzed this rule under that Order and have determined that it is consistent with the fundamental federalism principles and preemption requirements described in E.O. 13132.

Also, this rule does not have tribal implications under E.O. 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. This rule is categorically excluded under section 2.B.2, figure 2-1, paragraph (34)(h) of the Instruction because it involves establishment of special local regulations related to marine event permits for marine parades, regattas, and other marine events. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this NPRM as being available in the docket, and all public comments, will be in our online docket at http://www.regulations.gov and can be viewed by following that Web site's instructions. Additionally, if you go to the online docket and sign up for email alerts, you will be notified when comments are posted or a final rule is published.

List of Subjects in 33 CFR Part 100

Marine safety, Navigation (water), Reporting and recordkeeping requirements, and Waterways.

For the reasons discussed in the preamble, the U.S. Coast Guard proposes to amend 33 CFR part 100 as follows:

PART 100—SAFETY OF LIFE ON NAVIGABLE WATERWAYS

1. The authority citation for part 100 continues to read as follows:

Authority: 33 U.S.C. 1233.

2. Amend § 100.801 to revise table 1 to read as follows:

§ 100.801 Annual Marine Events in Sector Ohio Valley's AOR.

* * * * *

Date | Event/sponsor | Ohio Valley location | Regulated area
1. The first Saturday in April | University of Charleston Rowing/West Virginia Governor's Cup Regatta | Charleston, WV | Kanawha River, Mile 59.9-61.4 (West Virginia).
2. 1 day—During the last week of April or first week of May | Kentucky Derby Festival/Belle of Louisville Operating Board/Great Steamboat Race | Louisville, KY | Ohio River, Mile 596.0-604.3 (Kentucky).
3. 1 day—Third or fourth weekend in May | REV3/REV3 Triathlon | Knoxville, TN | Tennessee River, Mile 646.0-649.0 (Tennessee).
4. 1 day—Third weekend in May | World Triathlon Corporation/IRONMAN 70.3 | Chattanooga, TN | Tennessee River, Mile 463.0-466.0 (Tennessee).
5. 1 day—second weekend in June | Chattanooga Parks and Rec/Chattanooga River Rats Open Water Swim | Chattanooga, TN | Tennessee River, Mile 464.0-469.0 (Tennessee).
6. 1 day—Third or fourth weekend in June | Greater Morgantown Convention and Visitors Bureau/Mountaineer Triathlon | Morgantown, WV | Monongahela River, Mile 101.0-102.0 (West Virginia).
7. 2 days—First weekend of June | Kentucky Drag Boat Association | Pisgah Bay, KY | Tennessee River, Mile 30.0 (Kentucky).
8. 1 day—One of the first two weekends in August | Green Umbrella/Ohio River Paddlefest | Cincinnati, OH | Ohio River, Mile 459.5-470.2 (Ohio and Kentucky).
9. 1 day—Fourth or fifth Sunday in September | Green Umbrella/Great Ohio River Swim | Cincinnati, OH | Ohio River, Mile 469.8-470.2 (Ohio and Kentucky).
10. 1 day—One of the last two weekends in September | Ohio River Open Water Swim | Prospect, KY | Ohio River, Mile 588.0-590.0 9 (Kentucky).
11. 2 days—Second or third weekend in September | Louisville Dragon Boat Festival | Louisville, KY | Ohio River, Mile 603.0-603.5 (Kentucky).
12. 1 day—Third or fourth Sunday of July | Tucson Racing/Cincinnati Triathlon | Cincinnati, OH | Ohio River, Mile 469.3-470.2 (Ohio).
13. 2 days—First weekend of July | Kentucky Drag Boat Association | Pisgah Bay, KY | Tennessee River, Mile 30.0 (Kentucky).
14. 1 day—Second weekend in July | Bradley Dean/Renaissance Man Triathlon | Florence, AL | Tennessee River, Mile 255.0-257.0 (Alabama).
15. 3 days—One of the first two weekends in July | Madison Regatta, Inc./Madison Regatta | Madison, IN | Ohio River, Mile 555.0-560.0 (Indiana).
16. 1 day—One of the last three weekends in June | Louisville Race the Bridge Triathlon | Louisville, KY | Ohio River, Mile 601.5-603.0 (Kentucky).
17. 1 day—Fourth weekend in June | Team Magic/Chattanooga Waterfront Triathlon | Chattanooga, TN | Tennessee River, Mile 463.0-465.0 (Tennessee).
18. 1 day—Fourth weekend in July | Team Magic/Music City Triathlon | Nashville, TN | Cumberland River, Mile 190.0-192.0 (Tennessee).
19. 2 days—Last two weeks in July or first three weeks of August | Friends of the Riverfront Inc./Pittsburgh Triathlon and Adventure Races | Pittsburgh, PA | Allegheny River, Mile 0.0-1.5 (Pennsylvania).
20. 3 days—First week of August | EQT Pittsburgh Three Rivers Regatta | Pittsburgh, PA | Ohio River, Mile 0.0-0.5, Allegheny River, Mile 0.0-0.6, and Monongahela River, Mile 0.0-0.5 (Pennsylvania).
21. 2 days—First weekend of August | Kentucky Drag Boat Association | Pisgah Bay, KY | Tennessee River, Mile 30.0 (Kentucky).
22. 2 days—One of the last two weekends in September | Captain Quarters Regatta | Louisville, KY | Ohio River, Mile 595.0-597.0 (Kentucky).
23. 2 days—Second or third weekend in October | Norton Healthcare/Ironman Triathlon | Louisville, KY | Ohio River, Mile 601.5-604.5 (Kentucky).
24. 2 days—Third full weekend (Saturday and Sunday) in August | Ohio County Tourism/Rising Sun Boat Races | Rising Sun, IN | Ohio River, Mile 504.0-508.0 (Indiana and Kentucky).
25. 1 day—Last weekend in August | Tennessee Clean Water Network/Downtown Dragon Boat Races | Knoxville, TN | Tennessee River, Mile 647.0-649.0 (Tennessee).
26. 3 days—Third weekend in August | Governors' Cup/UWP-IJSBA National Championships | Charleston, WV | Kanawha River, Mile 56.7-57.6 (West Virginia).
27. 2 days—Fourth weekend in July | Herd Racing LLC/Huntington Classic | Huntington, WV | Ohio River, Mile 307.3-309.3 (West Virginia).
28. 2 days—Labor Day weekend | Wheeling Vintage Race Boat Association Ohio/Wheeling Vintage Regatta | Wheeling, WV | Ohio River, Mile 090.4-091.5 (West Virginia).
29. 2 days—weekend before Labor Day | SUP3Rivers The Southside Outside | Pittsburgh, PA | Monongahela River, Mile 0.0-3.09 Allegheny River Mile 0.0-0.25 (Pennsylvania).
30. 1 day—Saturday before Labor Day | Wheeling Dragon Boat Race | Wheeling, WV | Ohio River, Mile 90.4-91.5 (West Virginia).
31. 1 day—First or second weekend in September | Cumberland River Compact/Cumberland River Dragon Boat Festival | Nashville, TN | Cumberland River, Mile 190.0-192.0 (Tennessee).
32. 2 days—First or second weekend in September | State Dock/Cumberland Poker Run | Jamestown, KY | Lake Cumberland (Kentucky).
33. 3 days—First or second weekend in September | Sailing for a Cure Foundation/SFAC Fleur de Lis Regatta | Louisville, KY | Ohio River, Mile 601.0-604.0 (Kentucky).
34. 1 day—Last weekend in September | World Triathlon Corporation/IRONMAN Chattanooga | Chattanooga, TN | Tennessee River, Mile 463.0-467.0 (Tennessee).
35. 1 day—Second weekend in September | City of Clarksville/Clarksville Riverfest Cardboard Boat Regatta | Clarksville, TN | Cumberland River, Mile 125.0-126.0 (Tennessee).
36. 2 days—First weekend of October | Three Rivers Rowing Association/Head of the Ohio Regatta | Pittsburgh, PA | Allegheny River, Mile 0.0-4.0 (Pennsylvania).
37. 1 day—First or second weekend in October | Lookout Rowing Club/Chattanooga Head Race | Chattanooga, TN | Tennessee River, Mile 464.0-467.0 (Tennessee).
38. 1 day—Third weekend in November | TREC-RACE/Pangorge | Chattanooga, TN | Tennessee River, Mile 444.0-455.0 (Tennessee).
39. 3 days—First weekend in November | Atlanta Rowing Club/Head of the Hooch Rowing Regatta | Chattanooga, TN | Tennessee River, Mile 464.0-467.0 (Tennessee).
40. One Saturday in June or July | Paducah Summer Festival/Cross River Swim | Paducah, KY | Ohio River, Mile 934-936 (Kentucky).
41. 1 day—During the last weekend in May | Louisville Metro Government/Mayor's Healthy Hometown Subway Fresh Fit, Hike, Bike and Paddle | Louisville, KY | Ohio River, Mile 602.0-603.5 (Kentucky).
42. 3 days—One of the last three weekends in June | Hadi Shrine/Evansville Shriners Festival | Evansville, IN | Ohio River, Mile 791.0-795.0 (Indiana).
43. 1 day—Second or third Saturday in July | Allegheny Mountain LMSC/Search for Monongy | Pittsburgh, PA | Allegheny River, Mile 0.0-0.6 (Pennsylvania).
44. 1 day—During the first week of July | Evansville Freedom Celebration/4th of July Freedom Celebration | Evansville, IN | Ohio River, Mile 791.0-796.0 (Indiana).
45. 1 day—First weekend in September | Louisville Metro Government/Mayor's Healthy Hometown Subway Fresh Fit, Hike, Bike and Paddle | Louisville, KY | Ohio River, Mile 602.0-603.5 (Kentucky).
46. 2 days—One of the last three weekends in July | Dare to Care/KFC Mayor's Cup Paddle Sports Races/Voyageur Canoe World Championships | Louisville, KY | Ohio River, Mile 601.0-604.0 (Kentucky).
47. 3 days—Fourth weekend in August | Kentucky Drag Boat Association/Thunder on the Green | Livermore, KY | Green River, Mile 70.0-71.5 (Kentucky).
48. 1 day—Fourth weekend in August | Team Rocket Tri-Club/Rocketman Triathlon | Huntsville, AL | Tennessee River, Mile 333.0-334.5 (Alabama).
49. 3 days—One of the last three weekends in September or first weekend in October | Hadi Shrine/Owensboro Air Show | Owensboro, KY | Ohio River, Mile 755.0-759.0 (Kentucky).
50. 1 day—First Sunday in August | HealthyHuntington.org/St. Marys Tri-state Triathlon | Huntington, WV | Ohio River, Mile 307.3-308.3 (West Virginia).
51. 2 days—First Weekend in August | Buckeye Outboard Association/Portsmouth Challenge | Portsmouth, OH | Ohio River, Mile 355.3-356.7 (Ohio).
52. 1 day—Sunday before Labor Day | Cincinnati Bell, WEBN, and Proctor and Gamble/Riverfest | Cincinnati, OH | Ohio River, Mile 464.0-476.0 (Kentucky and Ohio) and Licking River Mile 0.0-3.0 (Kentucky).
53. Second Sunday in September | Ohio River Sternwheel Festival Committee Sternwheel race reenactment | Marietta, OH | Ohio River, Mile 170.5-172.5 (Ohio).
54. Second Saturday in September | Parkersburg Paddle Fest | Parkersburg, WV | Ohio River, Mile 184.3-188 (West Virginia).
55. Three days during the fourth weekend in September | New Martinsville Records and Regatta Challenge Committee | New Martinsville, WV | Ohio River, Mile 128-129 (West Virginia).
56. First weekend in July | Eddyville Creek Marina/Thunder Over Eddy Bay | Eddyville, KY | Cumberland River, Mile 46.0-47.0 (Kentucky).
57. First or second weekend of July | Prizer Point Marina/4th of July Celebration | Cadiz, KY | Cumberland River, Mile 54.0-55.09 (Kentucky).
58. 2 days, last weekend in May or first weekend in June | Visit Knoxville/Racing on the Tennessee | Knoxville, TN | Tennessee River, Mile 647.0-648.0 (Tennessee).
59. 1 day—First or second weekend in August | Riverbluff Triathlon | Ashland City, TN | Cumberland River, Mile 157.0-159.0 (Tennessee).
60. 2 days—First weekend in August | POWERBOAT NATIONALS—Ravenswood Regatta | Ravenswood, WV | Ohio River, Mile 220.5-221.5 (West Virginia).
61. 3 days—One of the last three weekends in June | Lawrenceburg Regatta/Whiskey City Regatta | Lawrenceburg, IN | Ohio River, Mile 492.0-496.0 (Indiana).
62. 2 days—One of the last three weekends in September | Madison Vintage Thunder | Madison, IN | Ohio River, Mile 557.5-558.5 (Indiana).
63. 1 day—Fourth weekend in October | Chattajack | Chattanooga, TN | Tennessee River, Mile 463.7-464.5 (Tennessee).
64. 1 day—Third weekend in March | Vanderbilt Invite | Nashville, TN | Cumberland River, Mile 189.0-192.0 (Tennessee).
65. 2 days—last weekend in September | Music City Head Race | Nashville, TN | Cumberland River, Mile 190.5-195.0 (Tennessee).
66. 1 day—Last weekend in July | Music City SUP Race | Nashville, TN | Cumberland River, Mile 190.0-191.5 (Tennessee).
67. 3 days—Third weekend in June | Thunder on the Cumberland | Nashville, TN | Cumberland River, Mile 190.5-194.0 (Tennessee).
68. 3 days—Second weekend in May | ACRA Henley | Nashville, TN | Cumberland River, Mile 189.0-193.0 (Tennessee).
69. 2 days—Third weekend in August | Kittanning Riverbration Boat Races | Kittanning, PA | Allegheny River, Mile 44.0-45.5 (Pennsylvania).
70. 2 days—Third Friday and Saturday in April | Thunder Over Louisville | Louisville, KY | Ohio River, Mile 598.0-603.0 (Kentucky).
71. 3 days—One of the first two weekends in September | Evansville HydroFest | Evansville, IN | Ohio River, Mile 791.8.0-793.0.

* * * * *

Dated: March 21, 2017.
M.B. Zamperini,
Captain, U.S. Coast Guard, Captain of the Port Ohio Valley.

[FR Doc. 2017-05989 Filed 3-24-17; 8:45 am]

BILLING CODE 9110-04-P